DEPARTMENT OF ENERGY

Energy Information Administration

Agency Information Collection Under Review by the Office of Management and Budget

AGENCY: Energy Information Administration, Department of Energy.

ACTION: Submission for OMB review; comment request.

SUMMARY: The Energy Information Administration (EIA) has submitted the Office of Civilian Radioactive Waste Management information collection listed at the end of this notice to the Office of Management and Budget (OMB) for review and revision under section 3506(c) of the Paperwork Reduction Act of 1995 (Pub. L. 104-13).

The entry contains the following information: (1) the collection numbers and title; (2) a summary of the collection of information, including the sponsor (i.e., the Department of Energy component), current OMB document number (if applicable), type of request (i.e, new, revision, extension, or reinstatement), and response obligation (i.e., mandatory, voluntary, or required to obtain or retain benefits), (3) a description of the need and proposed use of the information; (4) a description of the likely respondents; and (5) an estimate of the total annual reporting burden (i.e., the estimated number of likely respondents times the proposed frequency of response per year times the average hours per response).

DATES: Comments must be filed on or before December 6, 2000. If you anticipate that you will be submitting comments but find it difficult to do so within the time allowed by this notice, you should advise the OMB DOE Desk Officer listed below of your intention to do so as soon as possible. The OMB DOE Desk Officer may be telephoned at (202) 395-3084. (Also, please notify the EIA contact listed below.)

ADDRESSES: Address comments to the Department of Energy Desk Officer, Office of Information and Regulatory Affairs, Office of Management and Budget, 726 Jackson Place N.W., Washington, D.C. 20503. (Comments should also be addressed to the Statistics and Methods Group at the address below.)

FOR FURTHER INFORMATION CONTACT: Requests for additional information should be directed to Grace Sutherland, Statistics and Methods Group, (EI-70), Forrestal Building, U.S. Department of Energy, Washington, D.C. 20585-0670. Ms. Sutherland may be contacted by telephone at (202) 426-1104, FAX at (202) 426-1081, or e-mail at Grace.Sutherland@eia.doe.gov.

SUPPLEMENTARY INFORMATION: The energy information collection submitted to OMB for review was:

1. Form NWPA-830R C “Delivery Commitment Schedule.”

2. Office of Civilian Radioactive Waste Management (NWPA); OMB Number 1901-0260; Reinstatement of a currently approved collections; Voluntary.

3. NWPA's “Delivery Commitment Schedule” is designed for contract holders to designate the facility where DOE will accept their fuel, the number of assemblies to be accepted, and the mode of transportation to ship the assemblies. The information collected will be used to determine the Federal waste management system configuration.

4. Business or other for-profit

5. 2,664 hours (5.19 hours per response x 4.38 responses per year x 117 respondents).

Statutory Authority: Section 3506(h)(1) of the Paperwork Reduction Act of 1995 (Pub. L. No. 104-13).

Issued in Washington, D.C., October 31, 2000.
Jay H. Casselberry,
Agency Clearance Officer, Statistics and Methods Group, Energy Information Administration.

[FR Doc. 00-28371 Filed 11-3-00; 8:45 am]

BILLING CODE 6450-01-P